SMALL BUSINESS ADMINISTRATION

[Disaster Declaration #13633 and #13634]

Alaska Disaster #AK-00028

AGENCY: U.S. Small Business Administration.

ACTION: Notice

SUMMARY: This is a Notice of the Presidential declaration of a major disaster for the State of Alaska (FEMA-4122-DR), dated 06/25/2013.

Incident: Flooding.

Incident Period: 05/17/2013 through 06/11/2013.

Effective Date: 06/25/2013.

Physical Loan Application Deadline Date: 08/26/2013.

Economic Injury (EIDL) Loan Application Deadline Date: 03/25/2014.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 06/25/2013, applications for disaster loans may be filed at the address listed above or other locally announced locations.

The following areas have been determined to be adversely affected by the disaster:

Primary Areas (Physical Damage and Economic Injury Loans):Alaska Gateway REAA, Lower Yukon REAA, Yukon Flats REAA Yukon-Koyukuk REAA.

Contiguous Areas and Boroughs (Economic Injury Loans Only):

Alaska: Bering Strait REAA, Copper River REAA, Delta/Greely, Denali Borough, Fairbanks North Star Borough, Iditarod Area Reaa, Kashunamiut (Chevak) REAA, Kuspuk REAA, Lower Kuskokwim REAA, North Slope Borough, Northwest Arctic Borough.

The Interest Rates are:

| Percent
For Physical Damage:
Homeowners With Credit Available Elsewhere | 3.750
Homeowners Without Credit Available Elsewhere | 1.875
Businesses With Credit Available Elsewhere | 6.000
Businesses Without Credit Available Elsewhere | 4.000
Non-Profit Organizations With Credit Available Elsewhere | 2.875
Non-Profit Organizations Without Credit Available Elsewhere | 2.875
For Economic Injury:
Businesses & Small Agricultural Cooperatives Without Credit Available Elsewhere | 4.000
Non-Profit Organizations Without Credit Available Elsewhere | 2.875

The number assigned to this disaster for physical damage is 136336 and for economic injury is 136340.

(Catalog of Federal Domestic Assistance Numbers 59002 and 59008)

James E. Rivera,
Associate Administrator for Disaster Assistance.

[FR Doc. 2013-15827 Filed 7-1-13; 8:45 am]

BILLING CODE 8025-01-P